DEPARTMENT OF HOMELAND SECURITY

Citizenship and Immigration Services

Agency Information Collection Activities: Extension of a Currently Approved Collection; Comment Request

ACTION: 60-Day Notice of Information Collection Under Review: Application to Register Permanent Residence or Adjust Status and Supplement A to Form I-485.

The Department of Homeland Security, U.S. Citizenship and Immigration Services has submitted the following information collection request for review and clearance in accordance with the Paperwork Reduction Act of 1995. The information collection is published to obtain comments from the public and affected agencies. Comments are encouraged and will be accepted for sixty days until May 23, 2005.

Written comments and suggestions from the public and affected agencies concerning the proposed collection of information should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of this information collection:

(1) Type of Information Collection: Extension of a currently approved collection.

(2) Title of the Form/Collection: Application to Register Permanent Residence or Adjust Status and Supplement A to Form I-485.

(3) Agency Form Number, if Any, and the Applicable Component of the Department of Homeland Security Sponsoring the Collection: Form I-485 and I-485 Supplement A. U.S. Citizenship and Immigration Services.

(4) Affected Public Who Will be Asked or Required to Respond, as Well as a Brief Abstract: Primary: Individuals or households. This form allows an applicant to determine whether he or she must file under section 245 of the Immigration and Nationality Act, and it allows the USCIS to collect information needed for reports to be made to different government committees.

(5) An Estimate of the Total Number of Respondents and the Amount of Time Estimated for an Average Respondent to Respond: I-485 Adult respondents are 160,000 at 5.25 hours per response; I-485 Children respondents are 112,000 at 4.5 hours per response; and I-485 Supplement A respondents are 50,000 at 13 minutes (.216 hours) per response.

(6) An Estimate of the Total Public Burden (in Hours) Associated With the Collection: Form I-485 annual burden hours are 1,316,000 and Form I-485 Supplement A annual burden hours are 10,800.

If you have comments, suggestions, or need a copy of the information collection instrument, please contact Richard A. Sloan, Director, Regulatory Management Division, U.S. Citizenship and Immigration Services, 111 Massachusetts Avenue, NW., Washington, DC 20529; 202-272-8377.

Dated: March 17, 2005.
Richard A. Sloan,
Director, Regulatory Management Division, U.S. Citizenship and Immigration Services.

[FR Doc. 05-5675 Filed 3-22-05; 8:45 am]

BILLING CODE 4410-10-M